DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Monday, June 11, 2007 announcing the anticipated availability of funds for family planning services grants. Since that time, an additional State/population/area to be served has become available for competition. This Notice reflects the availability of Arizona, Navajo Nation for competition.

FOR FURTHER INFORMATION CONTACT: Susan B. Moskosky, 240-453-2818.

Correction

In the Federal Register of June 11, 2007, FR Doc. 07-11183, on page 32113, correct Table I to read:

Table I
States/populations/areas to be served | Approximate funding available | Application due date | Approximate grant funding date
Region I:
No service areas competitive in FY 2008
Region II:
New York, New York City area | $4,209,000 | 03/01/08 | 07/01/08
New Jersey | 8,586,000 | 09/01/07 | 01/01/08
Region III:
Maryland | 3,957,000 | 12/01/07 | 04/01/08
Southeast Pennsylvania | 4,889,000 | 03/01/08 | 07/01/08
West Virginia | 2,169,000 | 12/01/07 | 04/01/08
Region IV:
Kentucky | 5,442,500 | 03/01/08 | 07/01/08
South Carolina | 5,767,000 | 03/01/08 | 07/01/08
Florida, Greater Miami area | 544,000 | 06/01/08 | 09/30/08
Region V:
Ohio, Central area | 709,500 | 11/01/07 | 03/01/08
Minnesota | 2,632,500 | 09/01/07 | 01/01/08
Region VI:
Arkansas | 3,341,000 | 11/01/07 | 03/01/08
Louisiana | 4,370,000 | 03/01/08 | 07/01/08
New Mexico | 2,835,000 | 09/01/07 | 01/01/08
Region VII:
Iowa | 2,531,500 | 03/01/08 | 07/01/08
Iowa | 1,061,500 | 06/01/08 | 09/30/08
Region VIII:
Montana | 1,970,000 | 03/01/08 | 07/01/08
Region IX:
Arizona | 4,080,500 | 09/01/07 | 01/01/08
Arizona, Navajo Nation | 658,900 | 03/01/08 | 07/01/08
California | 20,451,500 | 09/01/07 | 01/01/08
California, Los Angeles area | 472,000 | 09/01/07 | 01/01/08
Republic of the Marshall Islands | 190,500 | 03/01/08 | 07/01/08
Region X:
Alaska | 873,000 | 03/01/08 | 07/01/08

In addition, on page 32111, in the first column, under II. Award Information, please correct the second sentence to read, “Of this amount, OPA intends to make available approximately $81.7 million for competing Title X family planning services grant awards in 22 states, populations, and/or areas.”

Dated: July 10, 2007.
Evelyn M. Kappeler,
Acting Director,Office of Population Affairs.

[FR Doc. E7-13700 Filed 7-12-07; 8:45 am]

BILLING CODE 4150-34-P